DEPARTMENT OF JUSTICE

Notice of Lodging of Consent Decree Under the Comprehensive Environmental Response, Compensation and Liability Act (“CERCLA”)

Pursuant to Section 122(d)(2) of CERCLA, 42 U.S.C. 9622(d)(2), notice is hereby given that on October 22, 2008, a proposed Consent Decree in United States of America v. Domtar Paper Company LLC, Civil Action No. 4:08-cv-179, was lodged with the United States District Court for the Eastern District of North Carolina.

In this action the United States sought to require the Defendant Domtar Paper Company LLC to conduct remedial design and remedial action to address releases and threatened releases of hazardous substances at the Domtar Paper Company LLC (formerly Weyerhaeuser Company) Plymouth Wood Treating Plant Superfund Site (“Site”) near the town of Plymouth in Martin County, North Carolina. The United States also sought to recover certain past and future costs incurred by the Environmental Protection Agency (“EPA”) during the performance of response actions at the Site.

Under the Consent Decree, the Defendant will perform the remedial design and remedial action at Operable Unit #4, which consists of the sediments and surface waters in Welch Creek and its associated wetlands, pursuant to the September 26, 2007 Record of Decision (ROD). The remedy provides for the placement of a thin layer of clean sand capping the upstream reach of the creek; long-term monitoring and maintenance of the cap; monitoring sediment mobility in the less-contaminated midstream reach of the creek; long-term testing and monitoring of sediments, surface water, and biota to document the performance of the remedy; and institutional controls to ensure public health and maintain the integrity of the remedy. The Defendant will also reimburse the Hazardous Substance Superfund for EPA's response costs incurred after March 5, 2007 at or in connection with Operable Unit 4.

The Department of Justice will receive for a period of thirty (30) days from the date of this publication comments relating to the Consent Decree. Comments should be addressed to the Assistant Attorney General, Environment and Natural Resources Division, P.O. Box 7611, U.S. Department of Justice, Washington, DC 20044-7611, and should refer to United States of America v. Domtar Paper Company LLC, Civil Action No. 4:08-cv-179 (E.D.N.C.), DOJ Ref. 90-11-3-07838/2.

The Consent Decree may be examined at the Office of the United States Attorney, Eastern District of North Carolina, 310 New Bern Avenue, Suite 800, Raleigh, North Carolina 27601, and at EPA Region 4, Atlanta Federal Center, 61 Forsyth Street, SW., Atlanta, Georgia 30303. During the public comment period, the Consent Decree may also be examined on the following Department of Justice Web site: http://www.usdoj.gov/enrd/open.htm. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please refer to United States of America v. Domtar Paper Company LLC, Civil Action No. 4:08-cv-179 (E.D.N.C.), DOJ Ref. 90-11-3-07838/2, and enclose a check in the amount of $65.75 (25 cents per page reproduction cost) payable to the U.S. Treasury.

Henry Friedman,
Assistant Section Chief, Environmental Enforcement Section, Environment & Natural Resources Division.

[FR Doc. E8-26070 Filed 10-31-08; 8:45 am]

BILLING CODE 4410-15-P